DEPARTMENT OF THE INTERIOR

Fish and Wildlife Service

Information Collection To Be Sent to the Office of Management and Budget (OMB) for Approval Under the Paperwork Reduction Act; OMB Control Number 1018-0130; Import/Export of Wildlife and Wildlife Parts and Products and Plant Rescue, 50 CFR Parts 12 and 23

AGENCY: Fish and Wildlife Service, Interior.

ACTION: Notice; request for comments.

SUMMARY: We (Fish and Wildlife Service) will submit the collection of information described below to OMB for approval under the provisions of the Paperwork Reduction Act. We will use this information to make decisions on whether to issue, suspend, revoke, amend, or deny a request for export approval or registration under the Convention on International Trade in Endangered Species of Wild Fauna and Flora (CITES).

DATES: You must submit comments on or before May 9, 2006.

ADDRESSES: Send your comments on the information collection to Hope Grey, Information Collection Clearance Officer, Fish and Wildlife Service, MS 222-ARLSQ, 4401 N. Fairfax Drive, Arlington, VA 22203 (mail); hope_grey@fws.gov (e-mail); or (703) 358-2269 (fax).

FOR FURTHER INFORMATION CONTACT: To request a copy of the information collection requirement, explanatory information, or related forms, contact Hope Grey at the addresses above or by telephone at (703) 358-2482.

SUPPLEMENTARY INFORMATION: OMB regulations at 5 CFR part 1320, which implement provisions of the Paperwork Reduction Act of 1995 (44 U.S.C. 3501 et seq.), require that interested members of the public and affected agencies be given an opportunity to comment on information collection and recordkeeping activities (see 5 CFR 1320.8(d)). On February 21, 2006, OMB approved our emergency request for information collection associated with the regulations (50 CFR parts 12, 13, and 23) that implement CITES. The OMB control number for this collection is 1018-0130, which expires on August 31, 2006. The supporting statements for our emergency request are available online at http://www.fws.gov/pdm/0130SupCurrent.pdf. We plan to request that OMB approve this information collection for a 3-year term. The information that we collect is the minimum information necessary to enable us to make the necessary findings and decisions under CITES. Federal agencies may not conduct or sponsor and a person is not required to respond to a collection of information unless it displays a currently valid OMB control number.

CITES regulates international trade in listed species through a system of permits and certificates. Before issuing a CITES Appendix II export permit, the Fish and Wildlife Service must find that: (1) The specimens to be exported were legally acquired and (2) the export will not be detrimental to the survival of the species in the wild.

We have set up programs to streamline the process for making the findings for export of certain native species listed in CITES Appendix II. Working with State and tribal governments, we have established export programs for American alligators, American ginseng, and certain native furbearers. For States and tribes that request export approval for one or more of these species, we collect information from the State and tribal governments on: (1) The conservation management of the relevant CITES-listed species in their territory and (2) their laws regulating the harvest of these species. This information allows us to make findings on a State or tribal basis, rather than requiring individual permit applicants to provide the information on a permit-by-permit basis.

After we approve a State or tribal export program, we collect information from the State or tribal government in the form of annual reports. These reports request information on annual harvest levels and any changes to the State or tribal regulatory procedures over the past year. States and tribes may refer to information that they provided in previous years if there has been no change. The annual reports provide information that enables us to make findings on an annual or multi-year basis. Regular reporting from States and tribes helps us ensure that our findings remain valid. We use FWS Form 3-200-61 (American Ginseng Export Program) to collect information on ginseng programs. We collect information on the other export programs via letter or e-mail.

This information collection also pertains to plant rescue. Live plant specimens traded in violation of CITES are subject to seizure. CITES requires that seized live plant material either be returned to the country of export or placed in a qualified rescue center in the country in which the seizure occurred. In the United States, we have a Plant Rescue Center program consisting of a network of botanical gardens, arboreta, zoological parks, and research institutions that have agreed to care for seized plant material. We collect nonform information to determine if an institution is qualified to participate in the Plant Rescue Center program as well as follow-up information from Plant Rescue Center participants confirming receipt of shipments and the condition of plants upon receipt.

Title: Import/Export of Wildlife and Wildlife Parts and Products and Plant Rescue, 50 CFR 12 and 23.

OMB Control Number: 1018-0130.

Service Form Number: 3-200-61.

Frequency of Collection: Annually (reports from approved State or tribal programs); on occasion (initial requests for program approval and reports from Plant Rescue Centers regarding shipments received).

Description of Respondents: State and tribal governments; botanical gardens, arboreta, zoological parks and research institutions.

Activity | Number of respondents | Number of responses | Estimated completion time (hrs) | Total annual burden (hrs)
Approval of a CITES Export Program (American ginseng, furbearers, American alligator) | 2 | 2 | 12 | 24
Reports—American Ginseng (FWS Form 3-200-61) | 25 | 25 | 2 | 50
Reports—Furbearer | 52 | 52 | 1 | 52
Reports—American Alligator | 10 | 10 | 1 | 10
Participation in the Plant Rescue Center Program | 3 | 3 | 1 | 3
Plant Rescue Center Status Reports | 69 | 140 | 0.5 | 70
Totals | 161 | 232 |  | 209

We invite comments concerning this collection on: (1) Whether or not the collection of information is necessary for the proper performance of our functions under CITES, including whether or not the information will have practical utility; (2) the accuracy of our estimate of burden on the public; (3) ways to enhance the quality, utility and clarity of the information to be collected; and (4) ways to minimize the burden of the collection of information on respondents.

Dated: March 2, 2006.
Hope Grey,
Information Collection Clearance Officer, Fish and Wildlife Service.

[FR Doc. E6-3365 Filed 3-9-06; 8:45 am]

BILLING CODE 4310-55-P